DEPARTMENT OF DEFENSE

Office of the Secretary

Notice of Designation of Chinese Military Company

AGENCY: Office of the Under Secretary of Defense (Acquisition and Sustainment), Department of Defense.

ACTION: Notice of addition of a company to the Section 1260H List of Chinese Military Companies Operating in the United States.

SUMMARY: The Deputy Secretary of Defense has determined that the entity listed in the SUPPLEMENTARY INFORMATION section of this notice qualifies as a “Chinese military company” in accordance with the William M. (Mac) Thornberry National Defense Authorization Act for Fiscal Year 2021.

FOR FURTHER INFORMATION CONTACT: Mr. Devante Brown (GIES), (703) 695-8545.

SUPPLEMENTARY INFORMATION: Section 1260H of the William M. (Mac) Thornberry National Defense Authorization Act for Fiscal Year 2021 (Pub. L. 116-283) requires the Secretary of Defense to make additions or deletions to the most recent list of “Chinese military companies” on an ongoing basis based on the latest information. Paragraph (b)(2) of this section requires the Secretary of Defense to publish the unclassified portion of such list in the Federal Register.

The Deputy Secretary of Defense has determined that the following entity qualifies as a “Chinese military company” in accordance with Section 1260H:

Hesai Technology Co., Ltd. (Hesai)

Dated: October 21, 2024.
Patricia L. Toppings,
OSD Federal Register Liaison Officer, Department of Defense.

[FR Doc. 2024-24723 Filed 10-21-24; 4:15 pm]

BILLING CODE 6001-FR-P